DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than December 11, 2020.

Interested persons are invited to submit written comments regarding the subject matter of the investigations to the Administrator, Office of Trade Adjustment Assistance, at the address shown below, not later than December 11, 2020.

The petitions filed in this case are available for inspection at the Office of the Administrator, Office of Trade Adjustment Assistance, Employment and Training Administration, U.S. Department of Labor, Room N-5428, 200 Constitution Avenue NW, Washington, DC 20210.

Signed at Washington, DC, this 16th day of November 2020.
Hope D. Kinglock,
Certifying Officer, Office of Trade Adjustment Assistance.

Appendix
[57 TAA petitions instituted between 10/1/20 and 10/31/20]
TA-W | Subject firm (petitioners) | Location | Date of institution | Date of petition
96502 | Arcosa Wind Towers, Inc. (State Workforce Office) | Dallas, TX | 10/01/20 | 09/30/20
96503 | Sandvik Special Metals LLC. (State Workforce Office) | Kennewick, WA | 10/01/20 | 09/29/20
96504 | Howell Metal Company Subsidiary of Mueller Industries (State Workforce Office) | New Market, VA | 10/01/20 | 09/30/20
96505 | BGF Industries, Inc. (Non-Woven Unit) (State Workforce Office) | Altavista, VA | 10/02/20 | 10/01/20
96506 | BGF Industries, Inc. (State Workforce Office) | Altavista, VA | 10/02/20 | 10/01/20
96507 | Howmet (State Workforce Office) | Hampton, VA | 10/02/20 | 09/30/20
96508 | Nokia (State Workforce Office) | Murray Hill, NJ | 10/02/20 | 10/02/20
96520 | Acuity Brands (State Workforce Office) | Tucson, AZ | 10/05/20 | 10/01/20
96521 | Citigroup Global Markets Inc. (State Workforce Office) | New York, NY | 10/06/20 | 10/06/20
96522 | Renaissance Manufacturing Group (Union Official) | Waukesha, WI | 10/06/20 | 10/02/20
96523 | Philips North America (American Job Center) | Nashville, TN | 10/06/20 | 10/05/20
96524 | American Woodmark Corporation (State Workforce Office) | Cumberland, MD | 10/06/20 | 10/05/20
96525 | Domtar Paper Company, LLC (Union Official) | Kingsport, TN | 10/06/20 | 10/02/20
96540 | Vestas (State Workforce Office) | Pueblo, CO | 10/08/20 | 10/07/20
96541 | Tobul Accumulators (Company Official) | Bamberg, SC | 10/09/20 | 10/08/20
96542 | Choice Hotels International (State Workforce Office) | Phoenix, AZ | 10/09/20 | 10/08/20
96543 | Kimball International (State Workforce Office) | Jasper, IN | 10/09/20 | 10/08/20
96544 | Freeport McMoran Copper and Gold (State Workforce Office) | Elizabeth, NJ | 10/09/20 | 10/08/20
96545 | Encompass Group dba The Pillow Factory (Company Official) | Buffalo Grove, IL | 10/09/20 | 10/08/20
96546 | Ricoh USA (State Workforce Office) | McLean, VA | 10/09/20 | 10/09/20
96547 | Castle Metals—Wichita (State Workforce Office) | Wichita, KS | 10/13/20 | 10/09/20
96548 | Hair salon (Company Official) | Middletown, OH | 10/13/20 | 10/09/20
96549 | Black Box Corporation of Pennsylvania (Company Official) | Lawrence, PA | 10/13/20 | 10/09/20
96550 | Collins Aerospace (Rockwell Collins) (State Workforce Office) | Wilsonville, OR | 10/13/20 | 10/09/20
96551 | Foveon Incorporated (State Workforce Office) | San Jose, CA | 10/13/20 | 10/09/20
96552 | Dura Automotive (State Workforce Office) | Milan, TN | 10/13/20 | 10/12/20
96553 | Indian Point Nuclear Generating Units 2 and 3 (Company Official) | Buchanan, NY | 10/13/20 | 09/28/20
96554 | EZFlow USA (State Workforce Office) | New Castle, PA | 10/13/20 | 10/09/20
96555 | Federal-Mogul Piston Rings LLC (State Workforce Office) | Sparta, MI | 10/13/20 | 10/09/20
96556 | Diversant (State Workforce Office) | Newton Square, PA | 10/13/20 | 10/13/20
96557 | Climax Mine (State Workforce Office) | Leadville, CO | 10/15/20 | 10/14/20
96558 | FreightCar America (Company Official) | Cherokee, AL | 10/15/20 | 10/15/20
96559 | Marmen Energy (State Workforce Office) | Brandon, SD | 10/16/20 | 10/15/20
96560 | Pall Corporation (Company Official) | Timonium, MD | 10/16/20 | 10/15/20
96561 | Eaton (Company Official) | Ellisville, MO | 10/19/20 | 10/16/20
96562 | Lee Enterprises (State Workforce Office) | Omaha, NE | 10/19/20 | 10/16/20
96563 | Caterpillar Inc., Morton Distribution Center (State Workforce Office) | Morton, IL | 10/19/20 | 10/16/20
96564 | Continental (State Workforce Office) | Newport News, VA | 10/20/20 | 10/19/20
96565 | Domtar, Ashdown Mill (State Workforce Office) | Ashdown, AR | 10/21/20 | 10/20/20
96566 | Asco Power Technologies (State Workforce Office) | Independence, OH | 10/21/20 | 10/20/20
96567 | Ascension Information Services (State Workforce Office) | Clayton, MO | 10/22/20 | 10/21/20
96568 | Cascades Tissue Group Pennsylvania Inc. (Union Official) | Pittston, PA | 10/22/20 | 10/20/20
96568A | Cascades Tissue Group Pennsylvania Inc. (Union Official) | Ransom, PA | 10/22/20 | 10/20/20
96569 | Telsmith Inc. (Union Official) | Mequon, WI | 10/23/20 | 10/15/20
96570 | The Hospital of Providence (State Workforce Office) | El Paso, TX | 10/23/20 | 10/22/20
96571 | Pactive Evergreen (State Workforce Office) | Abilene, TX | 10/26/20 | 10/23/20
96572 | InterDesign Inc. (Workers) | Warren, OH | 10/26/20 | 10/23/20
96573 | Tenneco (State Workforce Office) | South Bend, IN | 10/27/20 | 10/26/20
96574 | Phillips-Medisize Eau Claire (Company Official) | Eau Claire, WI | 10/28/20 | 10/27/20
96575 | Nan Ya Plastics (State Workforce Office) | Wharton, TX | 10/28/20 | 10/27/20
96576 | IAC Group (Company Official) | Greencastle, IN | 10/28/20 | 10/27/20
96577 | Metaldyne BSM LLC. AAM Fremont Manufacturing Facility (Company Official) | Fremont, IN | 10/28/20 | 10/27/20
96578 | The Corsi Group Inc. DBA Greenfield Cabinetry (State Workforce Office) | Elkins, WV | 10/29/20 | 10/28/20
96579 | Valsoft Corporation/MacPractice (State Workforce Office) | Lincoln, NE | 10/29/20 | 10/28/20
96580 | Sonoco Plastics (State Workforce Office) | Yakima, WA | 10/29/20 | 10/26/20
96581 | Solera Holdings Autopoint (State Workforce Office) | South Jordan, UT | 10/30/20 | 10/29/20
96582 | Aquafine Corporation (Company Official) | Valencia, CA | 10/30/20 | 10/29/20

[FR Doc. 2020-26382 Filed 11-30-20; 8:45 am]

BILLING CODE P